DEPARTMENT OF ENERGY

Federal Energy Regulatory Commission

Combined Notice of Filings #1

March 10, 2010.

Take notice that the Commission received the following electric corporate filings:

Docket Numbers: EC10-50-000.

Applicants: Entergy Nuclear Generation Company, Entergy Nuclear Palisades, LLC, Entergy Nuclear Power Marketing, LLC, Entergy Nuclear Vermont Yankee, LLC, Entergy Power Ventures, L.P., Entergy Nuclear Indian Point 2, LLC, Entergy Nuclear Indian Point 3, LLC, Entergy Power, LLC, EWO Marketing, Inc., Entergy Nuclear Fitzpatrick, LLC, Entergy Services, Inc.

Description: Application of Entergy Services, Inc., et al.

Filed Date: 03/09/2010.

Accession Number: 20100309-5135.

Comment Date: 5 p.m. Eastern Time on Tuesday, March 30, 2010.

Take notice that the Commission received the following electric rate filings:

Docket Numbers: ER98-4590-031.

Applicants: Public Service Company of Colorado.

Description: Public Service Company of Colorado submits the Simultaneous Transmission Import Limit Studies.

Filed Date: 03/08/2010.

Accession Number: 20100310-0226.

Comment Date: 5 p.m. Eastern Time on Monday, March 29, 2010.

Docket Numbers: ER07-1232-003; ER07-964-002; ER98-1150-011.

Applicants: UniSource Energy Development Company; UNS Electric, Inc.; Tucson Electric Company.

Description: Tucson Electric Co et al. submits the Triennial Market Power Update.

Filed Date: 03/08/2010.

Accession Number: 20100310-0233.

Comment Date: 5 p.m. Eastern Time on Friday, May 07, 2010.

Docket Numbers: ER08-1294-007; ER09-1656-003; ER01-1071-018; ER08-1293-007; ER08-1297-007; ER06-9-013; ER03-34-017; ER10-402-002; ER06-1261-012; ER03-1105-014; ER03-1105-014; ER09-138-005; ER08-197-011; ER09-989-006; ER09-832-007; ER98-4222-017; ER08-250-008; ER07-174-012L ER08-1296-007; ER08-1300-007; ER010-3-002; ER09-1760-002.

Applicants: Ashtabula Wind, LLC, Ashtabula Wind II, LLC, Badger Windpower, LLC, Butler Ridge Wind Energy Center, LLC, Crystal Lake Wind, LLC, Crystal Lake Wind II, LLC, FPL Energy Burleigh County Wind, LLC, FPL Energy Hancock County Wind, LLC, FPL Energy Illinois Wind, LLC, FPL Energy Mower County, LLC, FPL Energy North Dakota Wind, LLC, FPL Energy North Dakota Wind II, LLC, FPL Energy Oliver Wind I, LLC, FPL Energy Oliver Wind II, LLC, NextEra Energy Duane Arnold, LLC, NextEra Energy Point Beach, LLC, NextEra Energy Power Marketing, LLC, Hawkeye Power Partners, LLC, Lake Benton Power Partners LLC, Langdon Wind, LLC, Osceola Windpower, LLC, Osceola Windpower II, LLC, Story Wind, LLC

Description: NextEra Energy Entities Notification of Non-material Change in Status.

Filed Date: 03/08/2010.

Accession Number: 20100308-5129.

Comment Date: 5 p.m. Eastern Time on Monday, March 29, 2010.

Docket Numbers: ER10-469-001.

Applicants: Western Massachusetts Electric Company.

Description: Western Massachusetts Electric Company submits revised Demarcation Agreement.

Filed Date: 03/08/2010.

Accession Number: 20100309-0207.

Comment Date: 5 p.m. Eastern Time on Monday, March 29, 2010.

Docket Numbers: ER10-842-000.

Applicants: Energy Plus Holdings LLC.

Description: Energy Plus Holdings LLC submits a Petition for Acceptance of Initial Tariff, Waivers and Blanket Authority.

Filed Date: 03/08/2010.

Accession Number: 20100310-0225.

Comment Date: 5 p.m. Eastern Time on Monday, March 29, 2010.

Docket Numbers: ER10-848-000.

Applicants: Tampa Electric Company.

Description: Tampa Electric Company submits the non-conforming service agreement under cost-based power sales tariff with The Energy Authority, Inc.

Filed Date: 03/09/2010.

Accession Number: 20100310-0221.

Comment Date: 5 p.m. Eastern Time on Tuesday, March 30, 2010.

Docket Numbers: ER10-849-000.

Applicants: PacifiCorp.

Description: PacifiCorp submits a Notice of Cancellation of First Revised Rate Schedule FERC No 241, an Interconnection Agreement with the State of California Department of Water Resources, to be effective 5/10/10.

Filed Date: 03/09/2010.

Accession Number: 20100310-0222.

Comment Date: 5 p.m. Eastern Time on Tuesday, March 30, 2010.

Docket Numbers: ER10-850-000.

Applicants: Ameren Services Company.

Description: Central Illinois Light Company et al. submits a revised and redesignated Ancillary Services Tariff etc to be effective March 1, 2010.

Filed Date: 03/09/2010.

Accession Number: 20100310-0223.

Comment Date: 5 p.m. Eastern Time on Tuesday, March 30, 2010.

Docket Numbers: ER10-851-000.

Applicants: Ameren Services Company.

Description: Central Illinois Public Service Company et al. submits a revised version of the Ameren Operating Companies' Open Access Transmission Tariff.

Filed Date: 03/09/2010.

Accession Number: 20100310-0224.

Comment Date: 5 p.m. Eastern Time on Tuesday, March 30, 2010.

Take notice that the Commission received the following electric securities filings:

Docket Numbers: ES10-19-001.

Applicants: KCP&L Greater Missouri Operations Company.

Description: Supplemental Information of KCP&L Greater Missouri Operations Company.

Filed Date: 03/09/2010.

Accession Number: 20100309-5055.

Comment Date: 5 p.m. Eastern Time on Friday, March 19, 2010.

Take notice that the Commission received the following open access transmission tariff filings:

Docket Numbers: OA07-35-004.

Applicants: Cleco Power LLC.

Description: Cleco Power LLC submits their Operational Penalties Annual Compliance Report.

Filed Date: 03/08/2010.

Accession Number: 20100309-0206.

Comment Date: 5 p.m. Eastern Time on Monday, March 29, 2010.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. 2010-6210 Filed 3-19-10; 8:45 am]

BILLING CODE 6717-01-P